DEPARTMENT OF HOMELAND SECURITY

Coast Guard

46 CFR Parts 10, 11, and 15

[Docket No. USCG-2020-0069]

RIN 1625-AC63

Pilots' Medical Certificate Validity Period

AGENCY: Coast Guard, DHS.

ACTION: Notice of proposed rulemaking.

SUMMARY: The Coast Guard proposes to extend the maximum period of validity of merchant mariner medical certificates issued to first-class pilots and masters or mates serving as pilot from 2 years to 5 years. This proposed rule would reduce the frequency of medical certification application submissions to the Coast Guard. First-class pilots and masters and mates who serve as pilot on vessels of 1,600 gross registered tons or more would be required to submit the results of their annual physical examinations to the Coast Guard between medical certificate applications if: The mariner does not meet the physical ability requirements; the mariner has a condition that does not meet the medical, vision, or hearing requirements; the mariner is deemed “not recommended” by a medical practitioner for a medical certificate; or upon request by the Coast Guard. The proposed rule will not compromise safety because it maintains the requirement for pilots to obtain annual physicals and because it provides the Coast Guard opportunity to review the medical examination of pilots who may become medically unqualified between medical certificate applications.

DATES: Comments and related material must be received by the Coast Guard on or before October 26, 2021.

ADDRESSES: You may submit comments identified by docket number USCG-2020-0069 using the Federal Decision Making Portal at https://www.regulations.gov. See the “Public Participation and Request for Comments” portion of the SUPPLEMENTARY INFORMATION section for further instructions on submitting comments.

Collection of information. Submit comments on the collection of information discussed in section VI.D of this preamble both to the Coast Guard's online docket and to the Office of Information and Regulatory (OIRA) in the White House Office of Management and Budget (OMB) using their website www.reginfo.gov/public/do/PRAMain. Comments sent to OIRA on the collection of information must reach OMB on or before the comment due date listed on their website.

FOR FURTHER INFORMATION CONTACT: For information about this document, call or email Eric Malzkuhn, Coast Guard; telephone 202-372-1425, email eric.f.malzkuhn@uscg.mil.

SUPPLEMENTARY INFORMATION:

Table of Contents for Preamble

I. Public Participation and Request for Comments

II. Abbreviations

III. Basis and Purpose

IV. Background

V. Discussion of Proposed Rule

A. 46 CFR 10.301: Pilot Medical Certificate Period of Validity

B. 46 CFR 11.709: Annual Physical Examination Requirements for Pilots of Vessels of 1,600 GRT or More

C. 46 CFR 15.401: Employment and Service Restrictions Within the Pilot Credential

D. 46 CFR 15.812, Table 1 to § 15.812(e)(1): Masters or Mates Serving as Pilot on Vessels of 1,600 GRT or More

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2020-0069 in the search box, and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Public meeting. We do not plan to hold a public meeting but we will consider doing so if we determine from public comments that a meeting would be helpful. We would issue a separate Federal Register notice to announce the date, time, and location of such a meeting.

II. Abbreviations

BLS Bureau of Labor Statistics

CFR Code of Federal Regulations

DHS Department of Homeland Security

DOT Department of Transportation

DUI Driving under the influence

DWI Driving while intoxicated

FCP First-class pilot

FR Federal Register

GRT Gross registered tons

GS General service

MMC Merchant Mariner Credential

MMLD Merchant Mariner Licensing and Documentation

MMD Merchant Mariner's Document

NMC National Maritime Center

NPRM Notice of proposed rulemaking

OMB Office of Management and Budget

REC Regional Examination Center

§ Section

STCW Standards of Training, Certification, and Watchkeeping for Seafarers, 1978, as amended

STCW Convention International Convention on Standards of Training, Certification and Watchkeeping for Seafarers

SME Subject matter expert

U.S.C. United States Code

USPS United States Postal Service

III. Basis and Purpose

The purpose of this proposed rule is to extend the maximum period of validity of merchant mariner medical certificates issued to first-class pilots (FCPs) and masters or mates serving as pilot to 5 years, which would reduce the frequency that they must submit a medical certificate application to the Coast Guard. Reducing the frequency of medical certificate applications would reduce the administrative burden on the mariner submitting the application and on the Coast Guard when processing the application and issuing the medical certificate. This proposed rule would also amend the submission requirements for the results of the statutorily required annual physical examination for pilots serving on vessels greater than 1,600 gross register tons (GRT).

The legal basis of this proposed rule is Title 46 of the United States Code (U.S.C.), Section 7101(c), which authorizes the Coast Guard to issue licenses to pilots who are found qualified as to physical fitness and Section 7101(c)'s other qualifications. Title 46 U.S.C. 7101(e)(2) further specifies that an individual may only be issued a license as pilot if they are found to be of sound health and have no physical limitations that would hinder or prevent them in the performance of a pilot's duties. Section 7101(e)(3) also requires each pilot serving on vessels 1,600 GRT or greater to have a thorough physical examination each year while holding the license. The Secretary of the Department of Homeland Security (DHS) has delegated these statutory authorities to the Coast Guard through DHS Delegation No. 00170.1(92)(e), Revision No. 01.2, which generally authorizes the Coast Guard to determine and establish the experience and professional qualifications required for the issuance of credentials. Additionally, 14 U.S.C. 102(3) grants the Coast Guard broad authority to promulgate and enforce regulations for the promotion of safety of life and property on waters subject to the jurisdiction of the United States.

IV. Background

The Coast Guard issues Merchant Mariner Credentials (MMCs) and medical certificates to qualified mariners who meet the requirements in title 46 of the Code of Federal Regulations (CFR), subchapter B, parts 10 through 13. The requirements for medical certification are described in 46 CFR part 10, subpart C. Currently, as described in § 10.301, the medical certificate will be issued for various periods of time based upon the endorsements the mariner holds. For mariners employed or engaged on vessels to which the International Convention on Standards of Training, Certification and Watchkeeping for Seafarers (STCW Convention) applies, the maximum validity period is 2 years. For mariners serving as FCP, or masters or mates serving as pilot under 46 CFR 15.812, the maximum validity period is 2 years. For all other mariners serving on national MMC endorsements, the maximum validity period of the medical certificate is 5 years. Mariners may not be employed in a position requiring an MMC unless they hold a valid medical certificate as described in § 15.401(c).

Under the current requirements, FCPs and masters or mates who are serving as pilot on vessels of any tonnage must submit the results of a physical examination recorded on form CG-719K, the “Application for Medical Certificate,” to the Coast Guard every 2 years in order to maintain a valid medical certificate.

In accordance with § 11.709, FCPs and masters or mates serving as pilot on vessels of 1,600 GRT or more are required to have an annual physical examination that meets the medical and physical requirements described in part 10 subpart C. This annual physical examination requirement for pilots serving on vessels of 1,600 GRT or more has been in place since the enactment of the Port and Tanker Safety Act of 1978 (Pub. L. 95-474) and is codified in 46 U.S.C. 7101(e)(3). The Port and Tanker Safety Act was implemented as a result of safety concerns related to increased port congestion and vessel traffic, increasing vessel size, and the unique physical and cognitive demands placed upon pilots in performing their duties.

In 1985, the Coast Guard amended its regulations to require FCPs and masters or mates serving as pilot on vessels greater than 1,600 GRT to undergo annual physical examinations and to provide copies of their most recent physical examination to the Coast Guard upon request (see Volume 50 of the Federal Register (FR) at page 26106). In 2006, the Coast Guard published a notice exercising its authority to require all FCPs on vessels of 1,600 GRT or more, and other individuals serving as pilot on vessels of 1,600 GRT or more, to submit their physical examination results annually (see 71 FR 56999, Sept. 28, 2006). In 2009, the regulations were amended to include the annual physical examination submission requirement described in the 2006 public notice (see 74 FR 11196, March 16, 2009).

In 2014, the Coast Guard implemented a final rule titled, “Implementation of the Amendments to the International Convention on Standards of Training, Certification and Watchkeeping for Seafarers, 1978, (STCW Convention) and Changes to National Endorsements” (see 78 FR 77796, December 24, 2013), which established the current 2-year maximum period of validity of mariner medical certificates for FCPs. That rule reinforced the requirement in 46 CFR 11.709 that pilots serving on vessels of 1,600 GRT or more must undergo annual physical examination, but it changed the submission requirement of the annual physical exam to every other year to coincide with the expiration of the medical certificate.

In July 2017, the Coast Guard tasked the Merchant Mariner Personnel Advisory Committee, the Merchant Mariner Medical Advisory Committee, and the Great Lakes Pilotage Advisory Committee with identifying regulations, guidance, or information collections that that are outdated, ineffective, or exceed benefits and impose administrative burdens or costs on the maritime industry (see 82 FR 32511, 82 FR 32513, 82 FR 34909).

These three advisory committees noted that they received comments regarding the maximum period of validity of medical certificates for FCPs and those serving as pilot on vessels of 1,600 GRT or more. Specifically, these comments indicated that pilots are limited to a 2-year maximum period of validity of their medical certificate when the validity period is 5 years for all other national endorsements. The advisory committees concluded that the 2-year maximum period of validity of the medical certificate for FCPs posed a burden on mariners and suggested the Coast Guard extend the period of validity to 5 years. Additionally, in July 2018, the Coast Guard received a petition for rulemaking from the American Pilots' Association requesting that we change the maximum period of validity of the medical certificate from 2 years to 5 years for FCPs and those authorized to serve as pilot. The petition for rulemaking and our response are available in the docket where indicated under the ADDRESSES portion of the preamble.

V. Discussion of Proposed Rule

This proposed rule would increase the current 2-year maximum period of validity of the medical certificate for FCPs and masters or mates serving as pilot to 5 years. Mariners serving as pilot would be required to submit the results of a physical examination, recorded on form CG-719K, the “Application for Medical Certificate,” every 5 years to the Coast Guard. The following provides a section-by-section discussion of the proposed changes.

A. 46 CFR 10.301: Pilot Medical Certificate Period of Validity

The Coast Guard proposes to amend 46 CFR 10.301, which contains the general requirements for the issuance of medical certificates to mariners meeting the medical and physical standards. We propose to extend the 2-year maximum period of validity of the medical certificate for FCPs and those serving as pilot by deleting current § 10.301(b)(2), which contains the 2-year maximum provision. This notice of proposed rulemaking (NPRM) also proposes to move current § 10.301(b)(4), without change, into its own paragraph. We would redesignate it as § 10.301(c) and redesignate current § 10.301(c) as § 10.301(d).

The standard maximum periods of validity for medical certificates in § 10.301(b)(1) for all persons employed or engaged onboard vessels to which the STCW Convention applies will remain the same. With this proposed rule, the standard maximum periods of validity for medical certificates in § 10.301(b) for all other mariners will be 5 years (including FCPs and mariners serving as pilot). As a result, like all other mariners holding national endorsements, FCPs and masters or mates serving as pilot would generally only have to submit a medical certificate application to the Coast Guard every 5 years. This proposed change would reduce the administrative burden on the pilots and the Coast Guard.

The time required for the medical certificate application and evaluation can be lengthy if the Coast Guard requests amplifying information to support the results of the physical examination. There may be correspondence between the mariner, the Coast Guard, and the mariner's medical practitioner that results in additional time for a medical certificate application to be approved. It is possible that the extra time required for the Coast Guard to complete the evaluation of the medical certificate application can result in a lapse in validity of an FCP endorsement or the ability of a master or mate to serve as pilot. The proposed change may allow more time for the Coast Guard to evaluate applications without jeopardizing the pilot's ability to serve under the authority of their endorsement.

This proposed rule would not change the regulations on medical waivers, limitations, and restrictions in § 10.303 for not meeting the medical and physical requirements of § 10.302. If the medical or physical standards are not met, the Coast Guard may grant waivers with conditions, such as operational limitations or restrictions on the medical certificate. Certain conditions, such as a need for more frequent monitoring of the mariner's medical condition, may result in the issuance of a time-limited medical certificate that would be valid for a shorter period than the maximum. Pilots holding a medical certificate with a 2-year validity period would be issued a 5-year maximum period of validity at their next medical certificate issuance, unless the certificate is time-limited due to a medical condition.

The Coast Guard is proposing that the 5-year medical certificate period of validity would apply to all pilots, regardless of the tonnage of the vessel they are serving on. The Coast Guard believes that this increase in the validity period would not result in a risk that compromises maritime safety, given that the proposed rule does not relax the annual examination requirement for FCPs or masters and mates serving as pilot. Instead, it is expected that the rule will support greater transparency regarding a pilot's medical fitness because it includes a new requirement that pilots must submit the results of their annual examination to the Coast Guard for review if the medical practitioner determines that they no longer meet the medical and physical standards of 46 CFR, part 10, subpart C.

Mariners who serve as pilot on vessels of less than 1,600 GRT are currently issued 2-year medical certificates and are required to submit the physical examination results with their application for a new medical certificate every 2 years. These mariners include pilots on less than 1,600 GRT and masters or mates who serve as pilots on vessels of less than 1,600 GRT. These mariners who serve exclusively as pilot on vessels of less than 1,600 GRT are not subject to the annual physical examination requirement in § 11.709 and would not be subject to the new submission requirements in § 11.709 of this proposed rule. Under this proposed rule, pilots, masters, and mates who serve as pilot on only vessels less than 1,600 GRT would be issued 5-year medical certificates and would submit the results of a physical exam to the Coast Guard every 5 years when applying for a new medical certificate.

Even without an annual physical exam requirement, we believe allowing these mariners to have 5-year medical certificates like all other national endorsements does not pose a large risk to maritime safety by allowing them to pilot a vessel for the 5-year period. When masters or mates serve as pilot on vessels less than 1,600 GRT, it is typically a small fraction of their duties. Prior to the “Implementation of the Amendments to the International Convention on Standards of Training, Certification and Watchkeeping for Seafarers, 1978, and Changes to National Endorsements” final rule (78 FR 77796, Dec. 24, 2013), which took effect on March 24, 2014, this same group of mariners serving as pilot on vessels less than 1,600 GRT were issued 5-year medical certificates. Masters and mates serving as pilots on vessels less than 1,600 GRT were not required to take an annual physical exam either before or after the rule mentioned above. The Coast Guard does not have data to determine whether there was a change in the number of marine incidents caused by medical issues in this group of pilots when their medical certificates were issued with 5-year validity periods.

B. 46 CFR 11.709: Annual Physical Examination Requirements for Pilots of Vessels of 1,600 GRT or More

Section 11.709 contains the requirements for pilots of vessels 1,600 GRT or more to undergo an annual physical examination. This section specifies when the annual physical examinations must be conducted, how the examination results are recorded, and how often the examination results are reported to the Coast Guard.

To ensure consistency with 46 U.S.C. 7101(e)(3), we propose to clarify the applicability of this section by including masters or mates serving as pilot on vessels of 1,600 GRT or more, under § 15.812, in the introductory text of § 11.709(b). Adding these mariners to § 11.709(b) would provide additional clarity on the applicability of the annual physical examination requirements.

Paragraph (b) of this section currently states that the examination results are to be reported to the Coast Guard every other year to coincide with the current 2-year maximum period of validity of medical certificates. Because this proposed rule would extend the pilot's medical certificate to a 5-year maximum period of validity, we also propose to remove the every-other-year form CG-719K submission requirement for pilots. This proposed rule would revise the section to state that the physical examination results must be submitted on form CG-719K to the Coast Guard every 5 years, in accordance with the medical certificate application requirements in §§ 10.301 and 10.304. In practice, pilots who meet the medical and physical standards in 46 CFR part 10 would generally be required to report the results of the annual examination to the Coast Guard only when applying for a medical certificate, every 5 years.

The Coast Guard recognizes that when medical certificates remain valid for 5 years, as opposed to 2 years, there is a higher risk that someone could have a valid medical certificate for a significant time period after developing a disqualifying medical condition. In order to reduce the risk created by extending the validity period of the medical certificate, this proposed rule would require FCPs and masters or mates who serve as pilot on vessels that are 1,600 GRT or more to submit their annual physical examination results to the Coast Guard if any of the following circumstances occur: (1) The examining medical practitioner documents that the individual does not meet the physical ability requirements described in § 10.304(c); (2) the examining medical practitioner documents that the individual has a condition that does not meet the general medical exam requirements described in § 10.304(a), the vision requirements described in § 10.305, or the hearing requirements described in § 10.306; (3) the examining medical practitioner documents that the individual is not recommended for a medical certificate or needs further review by the Coast Guard; or (4) the Coast Guard requests the results.

We propose requiring self-submission of the medical examination to the Coast Guard when these pilots do not meet the requirements for physical abilities, general medical examination, vision or hearing, or are not recommended for a medical certificate, so that the Coast Guard can further review the results of the medical exam. As part of the review, the Coast Guard may request additional information in the interest of mariner safety and full performance of the pilot's duties.

Service on vessels may be arduous and impose unique physical and medical demands on pilots. The submission requirements would support our statutory responsibility under 46 U.S.C. 7101 to ensure that pilots are physically and medically fit to pilot a vessel. The public safety risks associated with the medical and physical condition of pilots on vessels are important considerations for the safe operation of vessels and the safety and well-being of the crew. As stated in § 11.709(b), the pilot's annual physical examination would continue to be recorded on form CG-719K, which documents physical ability, medical conditions, and hearing and vision requirements. Form CG-719K also documents whether a mariner is “not recommended,” which could prompt a submission under the proposed requirements in § 11.709(b)(1)-(3). The annual physical examination documentation and scope are unchanged and would remain the same under this proposed rule.

Moreover, we propose to clarify that the Coast Guard can request the results of the physical examination as part of marine casualty investigations, where more frequent monitoring of a medical condition is specified in a waiver, and in other cases that prompt further review.

As stated in § 11.701(d), the Coast Guard only issues FCP endorsements for tonnages of 1,600 GRT or more. Therefore, all FCPs serving under the authority of their FCP endorsement would continue to be required to undergo the statutorily required annual physical examinations and would be subject to the proposed submission requirements in § 11.709. However, as noted previously, masters and mates serving as pilot on vessels less than 1,600 GRT would not be subject to the physical examination and proposed submission requirements in § 11.709. The Coast Guard does not have data to determine whether there was a change in the number of marine incidents caused by medical issues in masters or mates serving as pilot on vessels less than 1,600 GRT when the medical certificates were issued with 5-year validity periods.

In § 11.709, we also propose to move the text specifying that each annual physical examination must meet the requirements in 46 CFR, part 10, subpart C, and be recorded on form CG-719K, from existing paragraph (c) into paragraph (b). We are proposing to move this requirement into paragraph (b) so that all the information on the annual physical examination requirements are in the same paragraph.

In conjunction with moving paragraph (c) into paragraph (b), this proposed rule would redesignate current § 11.709(d) as § 11.709(c), without change.

This proposed rule would add a new paragraph 11.709(d) to clarify that masters or mates serving as pilot on vessels of 1,600 GRT or more under § 15.812 may not serve on these vessels if they do not meet the annual physical examination and submission requirements specified in § 11.709(b). This new paragraph (d) would not change any of the current requirements or consequences for masters or mates serving as pilot on vessels of 1,600 GRT or more but, rather, would reiterate the annual physical examination requirements for masters or mates serving as pilot already required in § 15.812. Masters or mates serving as pilot on vessels of 1,600 GRT or more who fail to meet the physical examination requirements in § 11.709 may still operate under the authority of their master or mate endorsement, but would not be authorized to pilot a vessel of 1,600 GRT or more.

C. 46 CFR 15.401: Employment and Service Restrictions Within the Pilot Credential

This proposed rule also aligns the employment requirements in § 15.401 with the proposed 5-year maximum period of validity of medical certificates for FCPs or masters or mates serving as pilot so that it reflects the proposed change made in § 10.301(b). Section 15.401(c) states that a person may not employ an individual if that individual does not hold a valid medical certificate. This section currently lists the maximum validity period of the medical certificate as 2 years for FCPs and masters or mates serving as a pilot. This proposed rule would amend this section to say that all mariners (including pilots), where the STCW Convention does not apply, will be issued a 5-year medical certificate unless otherwise noted on the certificate.

Additionally, throughout § 15.401, this proposed rule would remove obsolete terminology referring to licenses, certificates of registry, and Merchant Mariner's Documents (MMDs). The Coast Guard ceased issuing licenses, certificates of registry, and MMDs in 2009 when we transitioned to the streamlined MMC with the Consolidation of Merchant Mariner Qualification Credentials final rule (see 74 FR 11195, March 16, 2009). All mariners now hold an MMC.

We also propose revising § 15.401(c)(1) by removing the outdated grandfathering clause, “[a]fter January 1, 2017”, because the referenced date has passed and the section is now applicable to all medical certificates issued to individuals serving on vessels where the STCW Convention applies.

D. 46 CFR 15.812, Table 1 to § 15.812(e)(1): Masters or Mates Serving as Pilot on Vessels of 1,600 GRT or More

This proposed rule includes a correction to Table 1 to § 15.812(e)(1). Currently, § 15.812(b)(2) states the requirements for masters or mates to serve as pilot on vessels of not more than 1,600 GRT. There is no requirement in paragraph (b)(2) for these masters and mates serving on vessels less than 1,600 GRT to undergo an annual physical examination. This is consistent with § 11.709(a), which stipulates that the annual physical examination requirement only applies to individuals who pilot a vessel of 1,600 GRT or more. However, in Table 1 to § 15.812(e)(1), “Quick Reference Table for Federal Pilotage Requirements for U.S.-Inspected, Self-Propelled Vessels, Not Sailing on Register,” the requirement for a master or mate serving as pilot on vessels not more than 1,600 GRT to have an annual physical exam was added in error. This error was incorporated into the table with the implementation of the final rule, “Implementation of the Amendments to the International Convention on Standards of Training, Certification and Watchkeeping for Seafarers, 1978, and Changes to National Endorsements” (78 FR 77796, Dec. 24, 2013), which took effect on March 24, 2014. We propose to remove the erroneous annual physical exam requirement in Table 1, under the third column, “Non-designated areas of pilotage waters (between the 3-mile limit and start of traditional pilotage routes).” This proposed removal of text would align the table with the corresponding regulatory text in section § 15.812(b)(2), as well as the applicability of the annual physical examination requirements in § 11.709(a). This correction to the table would not change the requirements for these mariners, because the Coast Guard has not required masters or mates serving as a pilot on vessels with less than 1,600 GRT to complete an annual physical examination.

VI. Regulatory Analyses

We developed this proposed rule after considering numerous statutes and Executive orders related to rulemaking. A summary of our analyses based on these statutes or Executive orders follows.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility.

The Office of Management and Budget (OMB) has not designated this proposed rule a significant regulatory action under section 3(f) of Executive Order 12866. Accordingly, OMB has not reviewed it. A regulatory analysis follows.

Summary of Affected Population, Costs Savings, and Benefits

This proposed rule would extend the maximum period of validity of merchant mariner medical certificates issued to FCPs and masters or mates serving as pilot from 2 years to 5 years. This proposed rule would reduce the frequency of medical certification application submissions to the Coast Guard. First-class pilots and masters and mates who serve as pilot on vessels of 1,600 GRT or more would be required to submit the results of their annual physical examinations to the Coast Guard between medical certificate applications if: (1) The mariner does not meet the physical ability requirements; (2) the mariner has a condition that does not meet the medical, vision, or hearing requirements; (3) the mariner is deemed “not recommended” by a medical practitioner for a medical certificate; or (4) upon request by the Coast Guard.

Table 1—Summary of the Affected Population, Cost Savings, and Benefits for This Proposed Rule
Category | Summary
Applicability | Amend 46 CFR 10.301 and 15.401 to extend the maximum period of validity of merchant mariner medical certificates issued to FCPs, and masters or mates serving as pilot, from 2 years to 5 years.
| Amend 46 CFR 11.709 by modifying the medical certificate application submission requirement for FCPs from 2 years to 5 years, as well as masters and mates who serve as pilot on vessels of 1,600 GRT or more.
Affected Population | There are currently 3,897 mariners who hold MMC endorsements as FCP as of June 1 each year from 2010 to 2020. This number does not include masters or mates who could serve as pilot.
| The affected population for this proposed rule is 95 percent of that population, or 3,702 mariners (net affected population).
Benefits | Fewer medical certificate applications would reduce NMC's workload and generate cost savings to the government and to mariners.
| There could be unquantified benefits for some pilots due to a decrease in the likelihood of a lapse in medical certification from less frequent medical certificate application submissions. A lapse in medical certification can have significant costs for individual pilots and for employers, because pilots may not work under the authority of their credential without a valid medical certificate.
Cost savings (in $2020, 7% discount rate) * | Industry cost savings: $20,098 annualized and $146,847 over a 10-year period of analysis.
| Government cost savings: $15,756 annualized and $110,664 over a 10-year period of analysis.
| Total cost savings to industry and government: $36,664 annualized and $257,511 over a 10-year period of analysis.
* Totals may not sum due to rounding.

Affected Population

The Merchant Mariner Licensing and Documentation (MMLD) database is used by the Coast Guard's National Maritime Center (NMC) to issue MMCs and maintain records of U.S. merchant mariners. Based on data obtained from the MMLD, we determined that a total of 3,897 mariners hold MMC endorsements as FCP. This proposed rule would not impact FCPs holding medical certificates issued with waivers requiring more frequent reporting of medical examination results to the Coast Guard. Based on MMLD data, this group currently consists of 195 mariners, which is 5 percent of the total affected population of 3,897 mariners. We reduced the total population (3,897 mariners) by this number (195) to obtain a net affected population of 3,702 mariners who would be impacted by this proposed rule.

Additionally, we determined that there are 89,713 (74,827 + 14,886) mariners who hold an MMC endorsement as master or mate, without holding an FCP endorsement, who could serve as pilot. Because there is no requirement to report when a master or mate serves as pilot, we are unable to determine how many masters or mates are serving as pilot; therefore, we limited the affected population in this analysis to mariners holding FCP endorsements and holding medical certificates without time-limited medical waivers. Table 2 presents these populations.

Table 2—Summary of Population by Endorsement
Population | Number of mariners
Total number of mariners holding an MMC endorsement as FCP and holding a medical certificate with or without time-limited medical waivers (total potentially affected FCP population) | 3,897
Those mariners holding an MMC endorsement as FCP and holding a medical certificate with time-limited medical waivers (unaffected FCP population due to waiver status resulting in no change in the period of validity of the medical certificate) | 195
Those mariners holding an MMC endorsement as FCP and holding a medical certificate without time-limited medical waivers (affected FCP population due to change in the period of validity of the medical certificate) | 3,702

Costs and Cost Savings

The proposed rule would reduce the frequency of mariner medical certificate applications to the Coast Guard, resulting in a cost savings to both mariners and the government. Industry cost savings would be the costs avoided by reducing the frequency with which FCPs and masters or mates serving as pilot would have to apply for a medical certificate. Subsequently, fewer applications would reduce the NMC's workload, generating cost savings for the government. The total 10-year discounted cost savings of this proposed rule would be $257,511 and the annualized total cost savings would be approximately $36,664, both discounted at 7 percent. This includes the 10-year industry and government savings of $146,847 and $110,664 respectively, discounted at 7 percent.

Turnover Rate

We did not factor mariner turnover into this analysis. “Mariner turnover” means the number or percentage of mariners leaving employment within a certain period of time, combined with the number or percentage of mariners obtaining employment within the same period of time. There are two reasons for not factoring in mariner turnover. First, the MMC serves as a certificate of mariner identity, service, and qualification. In order to serve under the authority of an endorsement on an MMC, a mariner must be physically and medically qualified for that endorsement, as evidenced by holding a valid medical certificate. Medical certification is not an endorsement of qualification on an MMC, but, instead, is a separate document certifying medical and physical fitness to serve in the capacity of an endorsement listed on the MMC.

The second reason mariner turnover is not factored into this analysis is because the FCP endorsement represents a maritime qualification that can lead to permanent employment with a pilot association. This career path is highly competitive, due to the rigorous, time-consuming, and highly specialized training required. As presented in table 3, data from MMLD indicates that the number of mariners holding an FCP endorsement has declined at an annual average rate of 0.48 percent in the last 11 years. We did not include mariner turnover because the Coast Guard believes it would have had a negligible effect in assessing the costs or cost savings for this regulatory analysis. The Coast Guard requests public comment on mariner turnover and, in particular, the number or percentage of retirements by mariners regulated by this proposed rule. Depending on data received by public comment, we may reconsider our approach to considering mariner turnover for the final rule.

Industry Cost Savings

The proposed rule would amend current requirements so the results of the annual physical examinations for pilots serving on vessels of 1,600 GRT or more would be submitted to the Coast Guard on form CG-719K (medical certificate application) every 5 years instead of every 2 years, unless one of the four conditions noted previously, and listed in § 11.709(b), is applicable.¹ Although mariners would still be required to complete an annual physical examination, the cost savings to industry would include the time savings of the affected population not having to submit an application for a merchant mariner medical certificate every 2 years, either by mail or in person, after the second year of the implementation of this proposed rule.

¹ Pilots must still undergo annual physical examinations. However, those pilots who are not required to submit the results to the Coast Guard during the 5 years would simply maintain personal copies.

Mariners may submit medical certificate applications either directly to the NMC via email or to a Regional Examination Center (REC) via email, fax, or mail. Additionally, applications may be submitted in person if submitted to a REC. Cost savings to industry would include the time saved by mariners by faxing, emailing, mailing, or delivering in-person the form CG-719K to the Coast Guard on a less frequent basis. According to data obtained from MMLD, 95 percent of medical certificates issued to FCPs, or 3,702 (0.95 × 3,897), are renewed every 2 years. The remaining 5 percent are renewed annually, for those pilots with time-limited certificates due to medical waivers. Since the merchant mariner medical certificate for FCPs and masters or mates serving as pilot is only valid for 2 years under current regulations, half the total number of FCPs and masters or mates serving as pilot are currently applying for a new medical certificate each year.

Current data from MMLD indicates that 195 mariners from the affected population would not benefit directly under this proposed rule. This is the number of FCPs and masters or mates serving as pilot who have been issued medical certificates with a waiver, which require more frequent reporting of the results of their annual physical examinations to the Coast Guard. These mariners would still be required to submit the form CG-719K to the Coast Guard on an annual basis.

Growth Rate of Affected Population

We analyzed the number of endorsed FCPs who would experience a reduction in burden from only needing to submit their medical certificate applications once every 5 years, after the second year of the implementation of this proposed rule, as opposed to once every 2 years under current regulations. We then analyzed the number of endorsed FCPs to estimate a population growth rate for mariners with MMCs who would become newly endorsed as FCPs. Using 11 years of data from MMLD, from 2010 to 2020,² which is presented in table 3, we found that the number of endorsed FCPs is declining at an average rate of 0.48 percent per year. The highest number of endorsed FCPs was observed in 2017, while the lowest number of endorsed FCPs was observed in 2020.

² Data for each year are complete because the data are captured and recorded each July.

We used this estimated annual average decline of 0.48 percent as a constant when forecasting the endorsed FCP population for the next 10 years. This constant rate represents the average decline experienced by FCPs throughout a 10-year period of analysis. We applied this 0.48 percent rate of decline to both the affected population in current regulations (the baseline) and the affected population in this proposed rule to determine the number of medical certificate application submissions in a given year. Table 3 presents the MMLD data used to determine the estimated annual rate of decline for the endorsed FCP population.

Table 3—Summary of Endorsed FCPs
Year | Endorsed FCPs (a) | Growth rate (%) (b) t = [(at-at-1)/at-1] × 100
2010 | 4,259 |
2011 | 4,292 | 0.77
2012 | 4,262 | −0.70
2013 | 4,237 | −0.59
2014 | 4,200 | −0.87
2015 | 4,171 | −0.69
2016 | 4,219 | 1.15
2017 | 4,297 | 1.85
2018 | 4,263 | −0.79
2019 | 4,217 | −1.08
2020 | 4,055 | −3.84
Avg | 4,225 | −0.48
Max | 4,297 |
Min | 4,055 |

Current Baseline

Table 4 illustrates the following discussion of our baseline analysis. In order to calculate the cost savings of this rule, and to determine our baseline industry costs, we first estimated the number of endorsed FCPs who would be applying for a merchant mariner medical certificate in any given year for the next 10 years, excluding those with medical waivers. To obtain this number, we took the total number of endorsed FCPs holding a medical certificate with or without time-limited medical waivers, 3,897, as shown in table 2. We then subtracted the number of endorsed FCPs who submit medical certificate applications on an annual basis due to time-limited restrictions, 195. We obtained a population of 3,702 endorsed FCPs who will submit their medical certificate applications every 5 years under the proposed rule. We then divided this number (3,702) by 2, which is the application rate of FCPs who are issued medical certificates (1 application every 2 years) to obtain an annual estimate of 1,851 medical certificates issued (3,702 ÷ 2). However, the number of endorsed FCPs has decreased over time, at an average annual rate of 0.48 percent from 2011-2020. We incorporated this average annual rate of decline in order to obtain the expected number of endorsed FCPs in a 10-year period of analysis. Column (d) t in table 4, “Current Regulation Medical Certificate Applications With Decline,” captures the affected population after applying the annual average rate of decline in column (b) and the application rate in column (c) t. The equation for column (d) t is represented as (d) t = (c) t + ([1 + (b)] ᵗ) for all t, where t denotes the period of time, and t is discrete and positive. Table 4 presents the number of medical certificate applications under the baseline analysis.

BILLING CODE 9110-04-P

Proposed Regulation

Table 5 illustrates the following discussion of our methodology for estimating the number of medical certificate applications for the affected population under this proposed rule. This is similar to the previously discussed “Current Baseline” section. The population and the estimated rate of decline are assumed to be identical under both the baseline scenario and the proposed rule. The difference in the methodology for the proposed rule is reflected in the application frequency for FCPs. We calculated this by taking the number of FCPs expected to submit a medical certificate application in a given year, incorporating the rate of decline, and assume that each eligible remaining FCP will only submit a medical certificate application at intervals of five years, starting in year 1. Column (e) t reflects this periodicity; FCPs who submit a medical certificate applications in year 1 would not have to submit a new medical certificate application until year 6. FCP's who submit their medical certificate application in year 2 would not have to submit their medical certificate application until year 7. After accounting for the yearly attrition projected for this analysis, values for column (e) t will be equivalent to values of column (d) t for t = 1,2,6,7, and 0 for any other period. This periodicity holds true for any given 10 year interval into the future.

In contrast, column (f) t reflects the reduction in medical certificate applications under our proposed rule. For any given period t, the reduction in medical certificate applications is calculated as the difference between FCPs who would otherwise submit a medical certificate application every other year under current regulations, column (d) t, and the number of FCPs who no longer have to submit a medical certificate application during years 3,4,5,8,9,10. Hence, column (f) t = 0 for t = 1,2,6,7, and column (f) t = (d) t − (e) t for any other year. Finally, column (g) t reflects the number of FCPs lost to the industry on a given year due to the projected attrition.

BILLING CODE 9110-04-C

Reduction in Merchant Mariner Medical Certificate Applications From Baseline to Proposed Rule

As reflected in sum of column (f)t of table 5, we project an aggregate reduction in medical certificate applications of 10,766 over a 10 years horizon following the implementation of this rule. Under the proposed regulation, on average, FCPs would not have to submit 1,794 medical certificate applications in a given year.

Medical Certificate Applications Submitted by Mail—Opportunity Cost of Time

Table 6 illustrates the analysis of cost savings to industry as discussed in the following sections. We first determine the number of FCPs who would submit a medical certificate application via mail, previously estimated by the NMC at 15% of the affected population. The number of FCPs who no longer have to submit a medical application on a given year is reflected on column (f) t of table 5. Therefore, column (a) t of table 6 is the product of reduced FCPs × 15%. We then estimated the reduction in hours under the proposed rule.

We first calculated the reduction in time-burden in a given year from FCPs who no longer have to submit a medical certificate application. The reduction in time-burden is calculated as the product of the average time per medical certificate application submitted by mail for evaluation, and the number of FCPs who no longer have to submit a medical certificate application in a given year. For the current collection of information approval for CG-719 MMC application forms, the approval estimates the total time required to fill out and submit the medical certificate application (CG-719K) by mailing to be 18 minutes. Subject matter experts holding MMCs with experience submitting a medical certificate application estimate that, on average, 13 minutes is required to fill out the application and the remaining 5 minutes is required to mail the application. Based on this data, the Coast Guard estimates the time required to submit an application by mailing at 5 minutes, or 0.083 hours (5 ÷ 60). Column (f) t in table 6 is the product of (a) t and (b). In order to calculate the government cost savings from time saved by NMC employees having fewer medical certificate application to process, we used an estimated loaded hourly wage rate of $94.03.³ We derived the estimated wage by using the Office of Personnel Management's 2020 Salary Table for the locality adjusted general service (GS) pay scale for the Washington, DC metropolitan area. We estimated that the average hourly wage rate for a GS-13 employee is $56.57.⁴ To account for employee benefits, we used a load factor of 1.66, which we calculated from the Congressional Budget Office report, “Comparing the Compensation of Federal and Private-Sector Employees, 2011 to 2015,” ⁵ estimated as the ratio of a typical GS-13 total compensation, $74.80, found in table 4, divided by the typical hourly wage of a GS-13 employee, $45.00, found in table 2; hence, $74.80 ÷ $45.00 = 1.66. An employee at the GS-13 pay grade is assumed to be equivalent to a person who holds a master's degree. Therefore, we estimated the loaded wage rate of a GS-13 employee as the product of the wage rate and the load factor, $56.57 × 1.66 = $94.03.

³ A loaded hourly wage rate is what a company pays per hour to employ a person, not the hourly wage an employee receives. The loaded hourly wage rate includes the cost of non-wage benefits (health insurance, vacation, etc.).

⁴ https://www.opm.gov/policy-data-oversight/pay-leave/salaries-wages/salary-tables/pdf/2020/GS_h.pdf.

⁵ https://www.cbo.gov/system/files/115th-congress-2017-2018/reports/52637-federalprivatepay.pdf.

We recognize that many mariners holding FCP endorsements are compensated at higher wage rates than what is published by the Bureau of Labor Statistics (BLS); however, we used the BLS Occupational Series due to the lack of official records for FCP wages and salaries. The Coast Guard requests input from industry on FCP wages and whether our wage rate should be revised.

In order to calculate the cost of time avoided by FCPs submitting fewer applications under the proposed rule, we used the loaded hourly wage rate per FCP, estimated at $64.90. We obtained the hourly wage rate of a mariner from the BLS, using Occupational Series 53-5021, Captains, Mates, and Pilots of Water Vessels (May 2020), estimated at $43.14.⁶ To determine the load factor per FCP, we divided the BLS total compensation for the transportation and material moving series,⁷ $32.27, by the wages and salaries for the same series, which is $21.45. We estimated the load factor as 1.50, $32.27 ÷ $21.45 = 1.50. Therefore, we calculated the loaded hourly wage rate by multiplying the hourly wage rate by the loaded factor, $43.14 × 1.50 = $64.90.

⁶ https://www.bls.gov/oes/2020/may/oes535021.htm (see Mean Hourly Wage value, National estimates for this occupation box).

⁷ https://www.bls.gov/news.release/archives/ecec_03192020.pdf. Found in Table 2.

After determining the total reduction in time for FCPs not submitting medical certificates in a given year, we estimated the aggregate cost of the time for all FCPs to submit their medical certificates applications to the Coast Guard. We estimated this amount by multiplying the loaded hourly wage-rate per each endorsed FCP, $64.90, by the total annual reduction in time burden. Therefore, the cost-time burden, column (g) t of table 6 is the product of column (d) and column (f) t.

Shipping Costs

Mariners may submit medical certificate applications either directly to the NMC or to a REC. Whether submitting to the NMC or a REC, applications can be submitted by email, fax, or mail. Additionally, if an application is submitted to a REC, this can be done in person.

Using data from the NMC on the submission of medical certificate applications, we estimate that approximately 39 percent of medical certificate applications are submitted directly to the NMC. Of these applications, 89 percent are submitted by email, 6 percent are submitted by fax, and 5 percent are submitted by mail. The remaining 61 percent of medical certificate applications are submitted directly to RECs, where 52 percent of the applications are submitted by email, 1 percent are submitted by fax, 22 percent are submitted by mail, and 25 percent are submitted in person.⁸ Therefore, of the total medical certificate applications submitted to the Coast Guard (to both the NMC and RECs), approximately 66 percent are submitted via email, 3 percent are submitted via fax, 15 percent are submitted via mail, and 15 percent are submitted in person.⁹

⁸ Total may not add to 100 percent due to rounding.

⁹ Total may not add to 100 percent due to rounding.

We estimated the expected cost of mailing applications through the U.S. Postal Service (USPS) in any given year as the product of the total number of medical certificate applications that would be submitted under this proposed rule, the cost of mailing a letter to the Coast Guard through the USPS using a first-class letter postage stamp, 55 cents, and the percentage of endorsed FCPs expected to submit their medical certificate applications through the mail, approximately 15.4 percent. Thus, column (h) t of table 6 = (a) t × (c). Finally, the undiscounted industry cost savings, column (i) t as the sum of the cost-time burden, column (g) t, and the USPS cost, column (h) t.

BILLING CODE 9110-04-P

Medical Certificates Applications Submitted in Person—Opportunity Cost of Time

Table 7 illustrates the analysis of cost savings to industry as discussed in the following sections. We first determine the number of FCPs who would submit a medical certificate application in person, previously estimated by NMC at 15% of the affected population. Therefore, the expected number of medical certificate applications submitted in person in a given year, column (a) t = Reduced FCPs × 15%. We assume that each eligible FCP will commute an average of 27.6 minutes in each direction ¹⁰ to submit their medical certificate application to an REC, for an average total commuting time of 55.2 minutes, column (c). We assume that FCPs who have a farther commute to the REC would submit the applications by mail or email. We also assume that FCPs will drive at an average speed of approximately 57 miles per hour (mph) based on the following calculation: From the Department of Transportation (DOT) National Traffic Speeds Survey II, Overall Speed Estimates (in MPH) by Road Class (Free-Flow) by Year, we took the mean speed of the three road classes provided: Limited access (70.5 mph), major arterial (53.28 mph), and minor arterial (47.01 mph), to obtain an average speed of 56.93 mph [(70.5 + 53.28 + 47.01) ÷ 3].¹¹ Considering the estimated average speed, we assume that 55.2 minutes of commuting time will be traveled in approximately 1 hour (55.2 minutes ÷ 57 miles per hour ≉ 0.97 hrs.), reflected in column (b).

¹⁰ https://www.census.gov/newsroom/press-releases/2021/one-way-travel-time-to-work-rises.html.

¹¹ Table 1. Overall Speed Estimates (in MPH) by Road Class (Free-Flow) by Year, Fact Sheet, Publication No. DOT HS 811 647, August 2012 https://safety.fhwa.dot.gov/speedmgt/data_facts/.

In order to calculate the opportunity cost of having to commute to submit a medical certificate application to an REC on a less frequent basis, we use GSA's Privately Owned Vehicle (POV) Mileage Reimbursement Rates,¹² which is used as a proxy for the wear and tear incurred while commuting to an REC. As of January 2021, the reimbursement rate is $0.56 per mile, column (d). We then estimate the net reduction in time-burden hours if this proposed rule is implemented, reflected in column (e) t.

¹² https://www.gsa.gov/travel/plan-book/transportation-airfare-pov-etc/privately-owned-vehicle-pov-mileage-reimbursement-rates.

The net reduction in time-burden is calculated as the product of the average time it would take FCPs to commute to and from an REC, column (b), and the number of FCPs that no longer have to submit a medical certificate on a given year, column (a) t. Hence, column (e) t = (a) t and (b). Next we estimate the net reduction in distance (miles avoided) by FCPs who no longer have to drive to submit a medical certificate application on a given year. The net reduction in distance (miles), column (f) t, is the product of the average miles avoided by FCP who would otherwise commute to and from an REC, column (c), and the aggregate time of commuting avoided by FCPs in hours. Finally, we estimate the undiscounted cost savings of FCPs who no longer have to submit a medical certificate application in person, column (g) t. This column is calculated as the product of GSA's reimbursement rate, column (d), and the aggregate distance (miles) avoided by FCPs on a given year, column (e) t. Hence, column (g) t = (d) × (f) t.

Medical Certificate Applications Submitted in Person—Opportunity Cost of Time (Compensation)

Table 8 illustrates an analysis similar to table 7, but in terms of the compensation that FCPs would have otherwise forgone in order to commute to an REC to submit a medical certificate application. Based on data provided from each REC, we determined that, on average, a mariner would require 25 minutes to arrive and enter a REC, considering security protocols, and exit the REC, column (c). It would require, on average, an additional 5 minutes of wait time to be seen by the legal instruments examiner at the customer service counter, column (d), and an additional 1 minute for the examiner to verify that the medical certificate application is complete and filled out properly, column (e). The time burden for FCPs would be no different than for any other mariner.

To quantify the savings associated to mariners not using a full hour of their time to commute to a REC, column (b), we use the FCP's loaded hourly wage rate, estimated at $64.90, column (f). The undiscounted cost savings associated to FCPs who no longer have to commute to submit a medical certificate application, column (g) t is calculated as the product of the number of reduced FCPs, column (a) t , the average commuting time to and from an REC, column (b), the average time to it takes an FCP to enter and exit an REC, column (c), the average time to it takes for an FCP to be seen by legal instruments examiner at the customer service counter, column (d), and the average time it takes for the examiner to verify that the medical certificate application is complete and filled out properly, column (e). Hence, (g) t = (a) t × [(b) + (c) + (d) + (e)] × (f).

Total Cost Savings to Industry

Using a 7-percent discount rate, we estimated the annualized cost savings for this proposed rule as $20,908 and the 10-year total as $146,847. We obtained this value by adding the yearly cost savings associated with the number of medical certificate applications not submitted in a given period (a) t and the number of medical certificate applications not delivered to the Coast Guard in a given period (b) t. We present these industry cost-savings amounts, discounted at 7 percent and 3 percent, in table 9.

Government Cost Savings

Table 10 illustrates the following methodology to calculate the cost savings to the government. We first estimated the reduction in hours associated with the reduction in medical certificate application submission previously discussed. We estimated the reduction in hours as the product of the reduction in medical certificate applications and the estimated time it would take a GS-13 employee at the NMC to process an application for a mariner medical certificate. Using medical certificate application information records obtained from NMC medical evaluation staff, we estimated that the time needed to evaluate a medical certificate application is approximately 10 minutes, or 0.166 hours (10 ÷ 60 = 0.166 hours).

Using the loaded hourly wage rate of $94.03 for a GS-13 employee, we estimated that the government would save $15.98 ($94.03 × 0.17 hour) on each application it would no longer have to evaluate. The annual reduction in the number of medical certificate applications for the proposed rule is the product of the number of applications the government will no longer have to review and the hours saved by not having to review an additional medical application. Therefore, (d) t = (a) t × 0.166 hrs. On average, the government would save 299 hours annually under the proposed rule.

Next, we estimated the total undiscounted government cost savings in a given year. We calculated this as the product of the estimated loaded hourly wage rate for a GS-13 employee, $94.03, and the yearly reduction in hours. This captures the difference in the medical certificate applications under current regulations and the proposed rule. On average, the government would save $18,444 annually under this proposed rule, discounted at 7 percent, as presented in table 10.

Total Estimated Cost Savings of the Proposed Rule Over a 10-Year Period of Analysis

Over a 10-year period of analysis, the total estimated cost savings of the proposed rule to mariners and the government is $257,511, discounted at 7 percent. The annualized cost savings are $36,664, also discounted at 7 percent. Table 11 presents the total cost savings of this proposed rule, which is the sum of the undiscounted industry savings, and the undiscounted government savings. Therefore, the undiscounted total cost savings is the sum of the undiscounted industry savings and the undiscounted government savings.

BILLING CODE 9110-04-C

Benefits

There are quantifiable benefits to this proposed rule. However, they are the cost savings accounted for above, including savings to mariners from less frequent submissions of medical certificate applications. This would subsequently reduce the NMC's workload and generate government cost savings.

In addition, there are unquantifiable benefits for some FCPs because they would be less likely to have a lapse in a medical certification due to the less frequent submission requirement. The Coast Guard does not have data to quantify the savings this would produce for this small percentage of affected FCPs, but we are aware that it may happen. For these pilots, economic losses occur when a current medical certificate expires prior to the time that a new medical certificate is approved and issued. Such circumstances can occur if the mariner has a complex medical history that requires frequent or prolonged correspondence between the mariner's medical practitioner and the NMC. This lapse in medical certification can have significant costs for both individual pilots and for employers, because pilots cannot work under the authority of their credential without a valid medical certificate. By establishing the proposed 5-year medical certificate for pilots, instead of the current 2-year medical certificate, the likelihood of such lapses would decrease, would ensure that they do not incur additional medical exam costs, and would also be a mitigating factor against a potential loss of income.

Alternatives

When analyzing alternatives, we considered two factors: the period of validity of the medical certificate for FCPs; and the requirement to submit physical examination results to the Coast Guard. Under current regulations, the period of validity of the medical certificate is 2 years for FCPs, and the submission of physical examination results is correspondingly every other year, unless the medical certificate contains a waiver requiring more frequent submission of the physical examination results.

Alternative 1. The first alternative we considered in this analysis was retaining the status quo, under which FCPs would continue to apply for their medical certificates every other year. The status quo would also continue to require FCPs to report their physical examination results every other year, unless their medical certificate contains a waiver requiring more frequent submission. As discussed previously, we estimated the opportunity cost of retaining the status quo at $36,664, annualized at 7 percent, or an undiscounted total of $257,511 over a 10-year period of analysis. We rejected this alternative. Although there would be no additional costs to mariners or the government, there would also be no cost savings.

Alternative 2. The second alternative we considered was extending the maximum period of validity of medical certifications to 5 years without interim self-reporting requirements, which would require mariners to submit the results of their medical examination to the Coast Guard if they no longer meet the medical standards. FCPs would only submit the results of the physical examination every 5 years with a medical certificate application, unless their medical certificate contains a waiver and requires more frequent submission. We rejected this alternative. The Coast Guard finds the potential for increased risk from mariners with underlying health issues operating as FCPs, and not self-reporting medical or health conditions that may impact their piloting performance and maritime safety, unacceptable. We made this determination after considering the unique physical and cognitive demands placed on pilots in performing their duties, and maritime casualties that were directly related to a FCP's physical ability to perform their duties. We considered casualties such as the 2003 Staten Island Ferry allision, which resulted in more than $8 million in damages and losses, and the 2007 Cosco Busan incident, which resulted in more than $70 million in environmental damages and other losses. Both casualties were directly attributed to the pilot's inability to properly manage the vessel due to underlying medical conditions that were not reported to the Coast Guard within the 5 year medical certificate validity period. The risk that mariners can develop new medical conditions within the 5 year medical certificate validity period is mitigated by the proposed self-reporting requirements. As evidenced by these maritime accidents and potential for extraordinary damages to the public, the environment, and the maritime industry, any potential benefit derived from excluding the interim self-reporting requirement on behalf of FCPs is not a risk deemed acceptable by the Coast Guard.

Alternative 3. The third alternative we considered was extending the maximum period of validity of the medical certificate to 5 years, and requiring FCPs to submit the results of their annual physical examinations to the Coast Guard between medical certificate applications if: (1) The mariner does not meet the physical ability requirements; (2) the mariner has a condition that does not meet the medical, vision, or hearing requirements; (3) the mariner is deemed “not recommended” by a medical practitioner for a medical certificate; or (4) upon request by the Coast Guard. With this third alternative, FCPs would apply for the medical certificates every 5 years and would only have to report the results of their medical examination between applications if any of the 4 conditions apply. This alternative mitigates the potential for increased safety risks identified under the second alternative, resulting from having mariners with underlying medical issues operating as FCPs. The potential for risk is increased when the Coast Guard does not have the opportunity to review the physical exams of mariners whose medical practitioners have diagnosed them with medical conditions that may impact their piloting performance. Therefore, the third alternative was chosen in this proposed rule.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

This proposed rule would reduce the burden on industry by extending the maximum period of validity of merchant mariner medical certificates for FCPs, and masters and mates serving as pilot, from 2 years to 5 years. Since the medical certificate is in the mariner's name and not an entity's, the affected mariners would receive the cost savings from this proposed rule. Hence, the changes in this proposed rule would affect individuals, not businesses or other small entities as defined by the Small Business Administration in 13 CFR 121.201.

Therefore, the Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please contact the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

The Coast Guard has determined that this proposed rule would call for a change to an existing collection of information under the Paperwork Reduction Act of 1995, 44 U.S.C. 3501 3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

The information collection associated with this proposed rule is the currently approved collection OMB Control No. 1625-0040 (Application for Merchant Mariner Credential (MMC), Application for Merchant Mariner Medical Certificate, Applications for Merchant Mariner Medical Certificate for Entry Level Ratings, Small Vessel Sea Service Form, DOT/USCG Periodic Drug Testing Form, Disclosure Statement for Narcotics, DWI/DUI, and/or Other Convictions, Merchant Mariner Medical Certificates, Recognition of Foreign Certificate), which covers all information collected for merchant mariner credentialing. The proposed revisions to 46 CFR 10.301 and 15.401 would extend the maximum validity period of the mariner medical certificate for FCPs and masters or mates serving as pilot from 2 years to 5 years. The proposed change to the maximum validity period of the medical certificate for pilots would reduce the frequency and burden of response estimates of the current information collection request.

Title: Application for Merchant Mariner Credential (MMC), Application for Medical Certificate, Application for Medical Certificate—Short Form, Small Vessel Sea Service (Optional) Form, DOT/USCG Periodic Drug Testing (Optional) Form, and Disclosure Statement for Narcotics, Driving while intoxicated (DWI)/Driving under the influence (DUI), and/or Other Convictions (Optional) Form.

OMB Control Number: 1625-0040.

Summary of the Collection of Information: The Coast Guard currently collects information from merchant mariners with their applications for MMCs and merchant mariner medical certificates. This collection includes the following information requests: Signature of applicant and supplementary material required to show that the mariner meets the mandatory requirements for the credential or medical certificate sought; proof of applicant passing all applicable vision, hearing, medical, and/or physical exams; negative chemical test for dangerous drugs; discharges or other documentary evidence of sea service indicating the name, tonnage, propulsion mode and power of the vessels, dates of service, capacity in which the applicant served, and on what waters; and disclosure documentation for narcotics, DWI/DUI, and/or other convictions.

Need for Information: Title 46 United States Code (U.S.C.) Subtitle II, Part E, Title 46 Code of Federal Regulation CFR part 10, subpart B, and International Convention on Standards of Training, Certification and Watchkeeping for Seafarers, 1978, as amended and the STCW Code, including the STCW final rule (Docket No. USCG-2004-17914) published on December 24, 2013, require MMC and medical certificate applicants to apply at one of the Coast Guard's 17 RECs located nationwide or any other location designated by the Coast Guard. MMCs are established for individuals who are required to hold a credential under Subtitle II. The Coast Guard has the responsibility of issuing MMCs and medical certificates to applicants found qualified as to age, character, and habits of life, experience, professional qualifications, and physical fitness. The instruments contained within OMB Control No. 1625-0040 serve as a means for the applicant to apply for an MMC and a medical certificate.

Proposed Use of Information: The Coast Guard conducts this collection of information solely for the purposes of determining eligibility for issuance of an MMC or medical certificate, in accordance with applicable statutes and regulations. This evaluation is performed on occasion, meaning as submitted by the respondent when he or she applies for an MMC or medical certificate. In general, applicants for an MMC must submit the CG-719-B every 5 years for renewal or when seeking a new endorsement or raise of grade, and applicants for a medical certificate must submit the CG-719K every 2 years or every 5 years, depending upon the type of credential or endorsements held and the applicant's medical status. The Coast Guard evaluates the collected information to determine whether applicants are qualified to serve under the authority of the requested credential with respect to their medical fitness, their professional qualifications, and their safety and suitability.

Description of the Respondents: All applicants for an MMC, whether original, renewal, duplicate, raise of grade, or a new endorsement on a previously issued MMC, are included in this collection. Applicants for medical certificates include mariners with MMC National, STCW, and pilot endorsements. The proposed change to the maximum validity period of the merchant mariner medical certificate from 2 years to 5 years applies only to FCPs and masters or mates serving as pilot.

Number of Respondents: This proposed rule would reduce the annual number of respondents by 7,324 over a 10-year period of analysis. As a result, the total annual respondents for this collection would change from 18,316 to 10,992.

Frequency of Response: For FCP endorsements, the annual average reduction would be 1,794. The responses are annual and would result in a reduction in the number of medical certificate submissions of the form CG-719-K from 54,800 to 44,034 (54,800 − 10,766 = 44,034).

Burden of Response: The total hourly burden per response was estimated at 18 minutes, or 0.30 hours. This proposed rule would reduce the aggregate burden of hours associated with the submission of the medical certification applications by extending the renewal period from every 2 years to every 5 years. Therefore, the total annual response time for submitting a new medical certificate would decrease by approximately 3,587 hours (138 hrs. via mail submissions + 1,654 hrs. in person submissions + 1,794 government hrs. review). However, the hourly burden per response would remain unchanged.

Estimate of Total Annual Burden: The Coast Guard estimates that the total annual burden with the proposed change to the medical certificate validity period for FCPs would be 16,286 hours a year, which is a 154-hour reduction in burden from the current corresponding collection total of 16,440 hours.

As required by 44 U.S.C. 3507(d), we will submit a copy of this proposed rule to OMB for its review of the collection of information. We ask for public comment on the proposed collection of information to help us determine, among other things—

• How useful the information is;

• Whether the information can help us perform our functions better;

• How we can improve the quality, usefulness, and clarity of the information;

• Whether the information is readily available elsewhere;

• How accurate our estimate is of the burden of collection;

• How valid our methods are for determining the burden of collection; and

• How we can minimize the burden of collection.

If you submit comments on the collection of information, submit them to both the OMB and to the docket where indicated under ADDRESSES.

You need not respond to a collection of information unless it displays a currently valid control number from OMB. Before the Coast Guard could enforce the collection of information requirements in this proposed rule, OMB would need to approve the Coast Guard's request to collect this information.

E. Federalism

A rule has implications for federalism under Executive Order 13132 (Federalism) if it has a substantial direct effect on States, on the relationship between the national government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that all of the categories covered in 46 U.S.C. 7101, and 8101 (personnel qualification and manning of vessels), as well as the reporting of casualties and any other category in which Congress intended the Coast Guard to be the sole source of a vessel's obligations, are within the field foreclosed from regulation by the States. See the Supreme Court's decision in United States v. Locke, 529 U.S. 89, 120 S.Ct. 1135 (2000) (finding that the states are foreclosed from regulating tanker vessels). See also Ray v. Atlantic Richfield Co., 435 U.S. 151, 157 (1978) (state regulation is preempted where “the scheme of federal regulation may be so pervasive as to make reasonable the inference that Congress left no room for the States to supplement it [or where] the Act of Congress may touch a field in which the federal interest is so dominant that the federal system will be assumed to preclude enforcement of state laws on the same subject.” (citations omitted)). Because this proposed rule involves the credentialing of mariners under 46 U.S.C. 7101, it relates to personnel qualifications and, as a result, is foreclosed from regulation by the States. Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and would not have any adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration (REC) supporting this determination is available in the docket where indicated under the ADDRESSES section of this preamble.

This proposed rule appears to meet the criteria for categorical exclusion (CATEX) under paragraphs L56 and L54 in Table 3-1 of U.S. Coast Guard Environmental Planning Implementing Procedures (April 2019), which is available in the docket at www.regulations.gov. Paragraph L56 pertains to regulations concerning the training, qualifying, licensing, and disciplining of maritime personnel. Paragraph L54 pertains to regulations which are editorial or procedural. This proposed rule involves amending the maximum period of validity of merchant mariner medical certificates from 2 years to 5 years for FCPs and masters or mates serving as pilot on vessels of 1,600 GRT or more. Additionally, the proposed rule includes an extension of the annual physical examination submission requirement from every other year to every 5 years, as long as circumstances do not require more frequent submissions of annual physical examination results to ensure maritime and public safety. We seek any comments or information that may lead to the discovery of a significant environmental impact from this proposed rule.

List of Subjects

46 CFR Part 10

Penalties, Personally identifiable information, Reporting and recordkeeping requirements, Seamen.

46 CFR Part 11

Penalties, Reporting and recordkeeping requirements, Schools, Seamen.

46 CFR Part 15

Reporting and recordkeeping requirements, Seamen, Vessels.

For the reasons discussed in the preamble, the Coast Guard proposes to amend 46 CFR parts 10, 11, and 15 as follows:

PART 10—MERCHANT MARINER CREDENTIAL

1. The authority citation for part 10 is revised to read as follows:

Authority: 14 U.S.C. 503; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; Department of Homeland Security Delegation No. 00170.1, Revision No. 01.2.

§ 10.301 [Amended]

2. In § 10.301, remove paragraph (b)(2) and redesignate paragraphs (b)(3) and (b)(4) as paragraphs (b)(2) and (b)(3), respectively.

PART 11—REQUIREMENTS FOR OFFICER ENDORSEMENTS

3. The authority citation for part 11 is revised to read as follows:

Authority: 14 U.S.C. 503; 31 U.S.C. 9701; 46 U.S.C. 2101, 2103, and 2110; 46 U.S.C. chapter 71; 46 U.S.C. 7502, 7505, 7701, 8906, and 70105; Executive Order 10173; Department of Homeland Security Delegation No. 00170.1, Revision No. 01.2. Section 11.107 is also issued under the authority of 44 U.S.C. 3507.

4. Amend § 11.709 by:

a. Removing paragraph (c);

b. Redesignating paragraph (d) as paragraph (c);

c. Adding paragraphs (b)(1) through (b)(4);

d. Adding paragraph (d); and

e. Revising paragraph (b) introductory text.

The revisions and additions read as follows:

§ 11.709 Annual physical examination requirements.

* * * * *

(b) Every person holding an MMC endorsement as first-class pilot, or a master or mate serving as a pilot under § 15.812, must have a thorough physical examination each year. This annual physical examination must be completed by the first day of the month following the anniversary of the individual's most recently completed Coast Guard-required physical examination. Each annual physical examination must meet the requirements specified in 46 CFR, part 10, subpart C, and be recorded on the form CG-719K. Every five years, in accordance with the medical certificate requirements in 10.301(b), 10.302(a), and 10.304(d) of this chapter, the results of the most recent physical examination must be submitted to the Coast Guard. The results of the physical examination must also be submitted to the Coast Guard no later than 30 calendar days after completion of the physical examination in any of the following circumstances:

(1) The examining medical practitioner documents that the individual does not meet the physical ability requirements as set forth in § 10.304(c);

(2) the examining medical practitioner documents that the individual has a condition that does not meet the general medical exam requirements described in § 10.304(a), the vision requirements described in § 10.305, or the hearing requirements described in § 10.306;

(3) the examining medical practitioner documents that the individual is not recommended for a medical certificate or needs further review by the Coast Guard as set forth in § 10.301(a); or

(4) the Coast Guard requests the results.

* * * * *

(d) A master or mate may not serve as a pilot on a vessel 1,600 GRT or more under § 15.812 if the person does not meet the physical examination requirements provided in paragraph (b) of this section.

PART 15—MANNING REQUIREMENTS

5. The authority citation for part 15 is revised to read as follows:

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and Department of Homeland Security Delegation No. 00170.1, Revision No. 01.2.

§ 15.401 [Amended]

6. Amend § 15.401 by:

a. In paragraph (a), remove in the first sentence the words, “license, certificate of registry, Merchant Mariner's Document (MMD),” and remove from the second sentence the words “license, certificate of registry, MMD, or”;

b. In paragraph (c)(1), remove the words “After January 1, 2017, two” and add, in its place the words, “Two”;

c. Remove paragraph (c)(2) and redesignate paragraph (c)(3) as paragraph (c)(2); and

d. In paragraphs (d) and (e), remove wherever it appears the words “MMD or”.

7. In § 15.812, in Table 1 to § 15.812(e)(1), revise the second row, which starts with “Inspected self-propelled vessels not more than 1,600 GRT, authorized by their COI to proceed beyond the Boundary Line, or operating on the Great Lakes”, to read as follows:

§ 15.812 Pilots.

* * * * *

Table 1 to § 15.812(e)(1)—Quick Reference Table for Federal Pilotage Requirements for U.S.-Inspected, Self-Propelled Vessels, Not Sailing on Register
| Designated areas of pilotage waters (routes for which First-Class Pilot's licenses or MMC officer endorsements are issued) | Non-designated areas of pilotage waters (between the 3-mile line and the start of traditional pilotage routes)
* * * * * * *
Inspected self-propelled vessels not more than 1,600 GRT, authorized by their COI to proceed beyond the Boundary Line, or operating on the Great Lakes | First-Class Pilot, or Master or Mate may serve as pilot if he or she— 1. Is at least 21 years old; 2. Maintains current knowledge of the waters to be navigated; and ¹ 3. Has four roundtrips over the route.² | Master or Mate may serve as pilot if he or she— 1. Is at least 21 years old; and 2. Maintains current knowledge of the waters to be navigated.¹
* * * * * * *

* * * * *

Dated: August 13, 2021.
J.W. Mauger,
Rear Admiral, U.S. Coast Guard, Assistant Commandant for Prevention Policy.

[FR Doc. 2021-17806 Filed 8-26-21; 8:45 am]

BILLING CODE 9110-04-P